DEPARTMENT OF THE TREASURY

Office of Foreign Assets Control

Privacy Act of 1974, as Amended, System of Records

AGENCY: Departmental Offices, Treasury.

ACTION: Notice of Consolidated Privacy Act System of Records.

SUMMARY: In accordance with the requirements of the Privacy Act of 1974, as amended, 5 U.S.C. 552a, the Department of the Treasury, Departmental Offices, gives notice of a consolidated Privacy Act system of records.

DATES: Comments must be received no later than November 5, 2010. This consolidated system of records will be effective November 5, 2010 unless the Office of Foreign Assets Control (OFAC) receives comments that would result in a contrary determination.

ADDRESSES: Comments should be sent to: Assistant Director, Disclosure Services, Office of Foreign Assets Control, Department of the Treasury, 1500 Pennsylvania Avenue, NW., Washington, DC 20220. The Department will make such comments available for public inspection and copying in the Department's Library, Room 1428, Main Treasury Building, 1500 Pennsylvania Avenue, NW., Washington, DC 20220, on official business days between the hours of 10 a.m. and 5 p.m. Eastern Time. You can make an appointment to inspect comments by telephoning 202-622-0990 (not a toll free number). All comments, including attachments and other supporting materials, received are subject to public disclosure. You should submit only information that you wish to make available publicly.

FOR FURTHER INFORMATION CONTACT: Assistant Director, Disclosure Services, Office of Foreign Assets Control, Department of the Treasury, 1500 Pennsylvania Avenue, NW., Washington, DC 20220, tel.: 202-622-2510 (not a toll free number), or Chief Counsel (Foreign Assets Control), Office of General Counsel, Department of the Treasury, 1500 Pennsylvania Avenue, NW., Washington, DC 20220, tel.: 202-622-2410 (not a toll free number).

SUPPLEMENTARY INFORMATION: This system of records exists within Treasury's Departmental Offices to manage records related to the implementation, enforcement, and administration of U.S. economic sanctions. The following systems of records are being consolidated and renamed as Treasury/DO .120—Records Related to Office of Foreign Assets Control Economic Sanctions:

Treasury/DO .111—Office of Foreign Assets Control Census Records.

Treasury/DO .114—Foreign Assets Control Enforcement Records.

Treasury/DO .118—Foreign Assets Control Licensing Records.

This notice of this system of records will provide the public with a better understanding of the purposes and uses of OFAC-related records and the public's access to these records. This system of records also supports determinations made by OFAC pursuant to Section 2002 of Public Law 106-386, Victims of Trafficking and Violence Protection Act of 2000. Additionally, one of the purposes of this system of records is to provide the names and other identifying information (such as names and aliases, addresses, dates of birth, citizenship information, and identification numbers associated with government-issued documents) of individuals and entities whose property and interests in property are blocked or otherwise affected by one or more OFAC economic sanctions programs to assist the public in complying with those sanctions programs. OFAC provides this information to the public by publishing a List of Specially Designated Nationals and Blocked Persons (SDN List). Individuals and entities on the SDN List are generally designated based on Executive orders and other authorities imposing sanctions with respect to terrorists, proliferators of weapons of mass destruction, sanctioned nations or regimes, narcotics traffickers, or other identified threats to the national security, foreign policy, and/or economy of the United States. The SDN List also includes information identifying certain property of individuals and entities that are subject to OFAC economic sanctions programs, such as vessels. The relevant sanctions programs generally prohibit U.S. persons and certain others from engaging in transactions involving property and interests in property of the identified individuals and entities. A very small subset of the individuals on the SDN List consists of U.S. individuals. The List of Specially Designated Nationals and Blocked Persons is published in the Federal Register, the Code of Federal Regulations (as an appendix to 31 CFR chapter V), and on OFAC's Internet site (http://www.treas.gov/ofac).

The Privacy Act generally prohibits an agency from disclosing any record contained in a system of records unless the individual to whom the record pertains has provided written consent. Subsection (b)(3) of the Privacy Act, however, provides that an agency may make a nonconsensual disclosure under a routine use for a purpose that is compatible with the purpose for which it collected the information. Disclosure of all information included in the SDN List is directly related to the purpose for which the information is collected and is necessary for the public and others to comply with the economic sanctions programs administered by OFAC.

The Department will publish separately in the Federal Register a final rule amending 31 CFR 1.36(g)(1)(i) by revising the system number and title of the system of records for which an exemption has been claimed from certain of the Privacy Act's requirements pursuant to 5 U.S.C. 552a(k)(2).

In a second rulemaking initiative associated with this notice, the Department will publish separately in the Federal Register a proposed rule amending 31 CFR 1.26(g)(6)(ii)(A) and 1.36(e), (f) and adding a system of records for which an exemption will be claimed from provisions of the Privacy Act pursuant to 5 U.S.C. 552a(k)(1).

As required by 5 U.S.C. 552a(r), a report of a consolidated system of records has been provided to the Committee on Oversight and Government Reform of the House of Representatives, the Committee on Homeland Security and Governmental Affairs of the Senate, and the Office of Management and Budget.

The system of records entitled “Treasury/DO .120—Records Related to Office of Foreign Assets Control Economic Sanctions” is published in its entirety below.

Dated: July 16, 2010.
Melissa Hartman,
Acting Deputy Assistant Secretary for Privacy, Transparency, and Records.

Treasury/DO .120

System Name:

Records Related to Office of Foreign Assets Control Economic Sanctions.

System Location:

Office of Foreign Assets Control (OFAC), Treasury Annex, Washington, DC 20220 or other U.S. Government facilities.

Categories of Individuals Covered by the System:

A system of records within Treasury's Departmental Offices exists to manage records related to the implementation, enforcement, and administration of U.S. economic sanctions. This includes records and information relating to individuals who:

(1) Are or have been subject to investigation to determine whether they meet the criteria for designation or blocking and/or are determined to be designated or blocked individuals or otherwise subject to sanctions under the sanctions programs administered by OFAC, or with respect to whom information has been obtained by OFAC in connection with such an investigation;

(2) Have engaged in or are suspected of having engaged in transactions and activities prohibited by Treasury Department regulations found at 31 CFR part 1, subpart B, chapter V, relevant statutes, and related Executive orders or proclamations, or with respect to whom information has been obtained by OFAC in connection with an investigation of such transactions and activities;

(3) Are applicants for permissive and authorizing licenses or already hold valid licenses under Treasury Department regulations, relevant statutes, and related Executive orders or proclamations;

(4) Hold blocked assets. Although most persons (individuals and entities) reporting the holding of blocked assets or persons holding blocked assets are not individuals, such reports and censuses conducted by OFAC identify a small number of U.S. individuals as holders of assets subject to U.S. jurisdiction which are blocked under the various sets of Treasury Department regulations involved, relevant statutes, and related Executive orders or proclamations; or

(5) Have submitted claims received, reviewed, and/or processed by OFAC for payment determination pursuant to Section 2002 of the Victims of Trafficking and Violence Protection Act of 2000 (Pub. L. 106-386, Section 2002).

Categories of Records in the System:

Records related to the implementation, enforcement, and administration of U.S. sanctions programs, including records related to:

(1) Investigations to determine whether an individual meets the criteria for designation or blocking and/or is determined to be a designated or blocked individual or otherwise affected by one or more sanctions programs administered by OFAC. In the course of an investigation, personally identifiable information is collected. Once an individual is designated, OFAC provides personally identifiable information to the public so that it can recognize listed individuals and prevent them from accessing the U.S. financial system. The release of personally identifiable information pertaining to the designee is also important in helping to protect other individuals from being improperly identified as the sanctioned target. The personally identifiable information collected by OFAC may include, but is not limited to, names and aliases, dates of birth, citizenship information, addresses, identification numbers associated with government-issued documents, such as drivers license and passport numbers, and for U.S. individuals, Social Security numbers;

(2) Suspected or actual violations of regulations, relevant statutes, and related Executive orders or proclamations administered by OFAC;

(3) Applications for OFAC licenses—with attendant supporting documentary material and copies of licenses issued—related to engaging in activities with designated entities and individuals or other activities that otherwise would be prohibited by relevant statutes, regulations, and Executive orders or proclamations administered by OFAC, including reports by individuals and entities currently holding Treasury licenses concerning transactions which the license holder has conducted pursuant to the licenses;

(4) Reports and censuses of assets blocked or held by U.S. individuals and entities which have been blocked at any time since 1940 pursuant to Treasury Department regulations found at 31 CFR part 1, subpart B, chapter V, relevant statutes, and related Executive orders or proclamations; or

(5) Submitted claims received, reviewed, and/or processed by OFAC for payment determinations pursuant to Section 2002 of the Victims of Trafficking and Violence Protection Act of 2000 (Pub. L. 106-386).

Authority for Maintenance of the System:

3 U.S.C. 301; 50 U.S.C. App. 1-44; 21 U.S.C. 1901-1908; 8 U.S.C. 1182; 18 U.S.C. 2339B; 22 U.S.C. 287c; 31 U.S.C. 321(b); 50 U.S.C. 1601-1651; 50 U.S.C. 1701-1706; Pub. L. 110-286, 122 Stat. 2632; 22 U.S.C. 2370(a); Pub. L. 108-19, 117 Stat. 631; Pub. L. 106-386 § 2002; Pub. L. 108-175, 117 Stat. 2482; Pub. L. 109-344, 120 Stat. 1869; 31 CFR Chapter V.

Purpose(s):

This system of records exists within Treasury's Departmental Offices to manage records related to the implementation, enforcement, and administration of U.S. economic sanctions by OFAC. Included in this system of records are records:

(1) Relating to investigations into whether individuals and entities meet the criteria for economic sanctions under U.S. sanctions programs administered by OFAC. This portion of the system of records may be used during enforcement, designation, blocking, and other investigations, when applicable. These records are also used to produce the publicly issued List of Specially Designated Nationals and Blocked Persons (SDN List). The SDN List is used to publish information that will assist the public in identifying individuals and entities whose property and interests in property are blocked or otherwise affected by one or more sanctions programs administered by OFAC, as well as information identifying certain property of individuals and entities that are subject to OFAC economic sanctions programs, such as vessels.

(2) Relating to investigations of individuals and entities suspected of violating statutes, regulations, or Executive orders administered by OFAC. Possible violations may relate to financial, commercial, or other transactions with persons with respect to whom sanctions have been imposed, including but not limited to foreign governments, blocked persons (entities and individuals), and specially designated nationals (entities and individuals). OFAC conducts civil investigations of possible violations. When it determines that a violation has occurred, OFAC issues a civil penalty or takes other administrative action, when appropriate. Criminal investigations of possible violations are conducted by relevant U.S. law enforcement agencies. OFAC refers criminal matters to those agencies and otherwise exchanges information with them in order to support the investigation and prosecution of possible violations. Records of enforcement investigations and resulting administrative actions are also used to generate statistical information. (3) Containing requests from U.S. and foreign individuals or entities for licenses to engage in commercial or humanitarian transactions, to unblock property and bank accounts, or to engage in other activities otherwise prohibited under economic sanctions administered by OFAC. This also includes information collected in the course of determining whether to issue a license and ensuring its proper use, as well as reports by individuals and entities currently holding Treasury licenses concerning transactions which the license holder has conducted pursuant to the licenses. This portion of the system of records may be used during enforcement investigations, to ascertain whether there is compliance with the conditions of ongoing OFAC licenses, and to generate information used in reports on the number and types of licenses granted or denied under particular sanctions programs.

(4) Used to identify and administer assets of blocked foreign governments, groups, entities, or individuals. OFAC receives reports of asset blocking actions by U.S. entities and individuals when assets are blocked under the sanctions programs OFAC administers; when censuses are undertaken at various times for specific sanctions programs to identify the location, type, and value of property blocked under OFAC-administered programs; and when OFAC obtains information regarding blockable assets in the course of its investigations. Most blocked asset information is obtained by requiring reports from all U.S. holders of blocked property subject to OFAC reporting requirements. The reports normally contain information such as the name of the U.S. holder, the account party, the location of the property, and a description of the type and value of the asset. In some instances, adverse claims by U.S. entities and individuals against the blocked property are also reported. This portion of the system of records may be used during enforcement, designation, blocking, and other investigations as well as to produce reports and respond to requests for information.

(5) Used to support determinations made by OFAC pursuant to Section 2002 of Pub. L. 106-386, the Victims of Trafficking and Violence Protection Act of 2000, including the facilitating of payments provided for under the Act. OFAC has reported its determinations to other parts of Treasury to facilitate payment on claims.

Routine Uses of Records Maintained in the System, Including Categories of Users and the Purposes of Such Uses:

These records may be used to:

(1) Disclose information to further the efforts of appropriate Federal, state, local, or foreign agencies in investigating or prosecuting the violations of, or for enforcing or implementing, a statute, rule, regulation, order, license, or agreement;

(2) Disclose information to a Federal, state, local, or foreign agency, maintaining civil, criminal, or other relevant enforcement information or other pertinent information, which has requested information necessary or relevant to the requesting agency's official functions;

(3) Disclose information to the Departments of State, Justice, Homeland Security, Commerce, Defense, or Energy, or other federal agencies, in connection with Treasury licensing policy or other matters of mutual interest or concern;

(4) Provide information to appropriate national security and/or foreign-policy-making officials in the Executive branch to ensure that the management of OFAC's sanctions programs is consistent with U.S. foreign policy and national security goals;

(5) Disclose information relating to blocked property to appropriate state agencies for activities or efforts connected to abandoned property;

(6) Disclose information to a court, magistrate, or administrative tribunal in the course of presenting evidence, including disclosure to opposing counsel or witnesses in the course of civil discovery, litigation, or settlement negotiations, or in response to a Court order, or in connection with criminal law proceedings, when such information is determined to be arguably relevant to the proceeding;

(7) Provide information to a Congressional office in response to an inquiry made at the request of the individual to whom the record pertains;

(8) Disclose information to foreign governments and entities, and multilateral organizations—such as Interpol, the United Nations, and international financial institutions—consistent with law and in accordance with formal or informal international agreements, or for an enforcement, licensing, investigatory, or national security purpose;

(9) Provide information to third parties during the course of an investigation or an enforcement action to the extent necessary to obtain information pertinent to the investigation or to carry out an enforcement action;

(10) Provide access to information to any agency, entity, or individual for purposes of performing authorized security, audit, or oversight operations or meeting related reporting requirements;

(11) Disclose information to appropriate agencies, entities, and individuals when:

(a) Treasury suspects or has confirmed that the security or confidentiality of information in the system of records has been compromised; (b) Treasury has determined that as a result of the suspected or confirmed compromise there is a risk of harm to economic or property interests, identity theft or fraud, or harm to the security or integrity of this system or other systems or programs (whether maintained by the Department or another agency or entity) that rely upon the compromised information; and (c) the disclosure made to such agencies, entities, and individuals is reasonably necessary to assist in connection with Treasury's efforts to respond to the suspected or confirmed compromise and prevent, minimize, or remedy such harm; or

(12) Disclose information to the general public, in furtherance of OFAC's mission, regarding individuals and entities whose property and interests in property are blocked or otherwise affected by one or more OFAC economic sanctions programs, as well as information identifying certain property of individuals and entities subject to OFAC economic sanctions programs. This routine use includes disclosure of information to the general public in furtherance of OFAC's mission regarding individuals and entities that have been designated by OFAC. This routine use encompasses publishing this information in the Federal Register, in the Code of Federal Regulations, on OFAC's Web site, and by other means.

The information associated with individuals as published on OFAC's List of Specially Designated Nationals and Blocked Persons (the SDN List) generally relates to non-U.S. entities and individuals, and, therefore, the Privacy Act does not apply to most of the individuals included on the SDN List. However, a very small subset of the individuals on the SDN List consists of U.S. individuals. Individuals and entities on the SDN List are generally designated based on Executive orders and other authorities imposing sanctions with respect to terrorists, proliferators of weapons of mass destruction, sanctioned nations or regimes, narcotics traffickers, or other identified threats to the national security, foreign policy, and/or economy of the United States. Generally, the personal identifier information provided on the SDN List may include, but is not limited to, names and aliases, addresses, dates of birth, citizenship information, and, at times, identification numbers associated with government-issued documents. It is necessary to provide this identifier information in a publicly available format so that listed individuals and entities can be identified and prevented from accessing the U.S. financial system. At the same time, the release of detailed identifier information of individuals whose property is blocked or who are otherwise affected by one or more OFAC economic sanctions programs is important in helping to protect other individuals from being improperly identified as the sanctioned target.

Because the SDN List is posted on OFAC's public Web site and published in the Federal Register and in 31 CFR Appendix A, a designated individual's identifier information can be accessed by any individual or entity with access to the internet, the Federal Register, or 31 CFR Appendix A. Thus, the impact on the individual's privacy will be substantial, but this is necessary in order to make targeted economic sanctions effective. Designated individuals can file a “de-listing petition” to request their removal from the SDN List. See 31 CFR 501.807. If such a petition is granted, the individual's name and all related identifier information are removed from the active SDN List.

Policies and Practices for Storing, Retrieving, Accessing, Retaining, and Disposing of Records in the System:

Storage:

As hard copy documents in file folders or magnetic or electronic media.

Retrievability:

Records related to:

(1) Enforcement, designation, blocking, and other investigations are retrieved by the name of the individual or other relevant search term.

(2) Licensing applications are retrieved by license or letter number or by the name of the applicant.

(3) Blocked property records are retrieved by the name of the holder, custodian, or owner of blocked property.

(4) Claims received, reviewed, and processed by OFAC for payment determinations pursuant to Section 2002 of the Victims of Trafficking and Violence Protection Act of 2000, Public Law Number 106-386, are retrieved by the name of the applicant.

Safeguards:

Folders maintained in authorized filing equipment are located in areas of limited and controlled access and are limited to authorized Treasury employees. Computerized records are on a password-protected network. Access controls for all internal, electronic information are not less than required by the Treasury Security Manual (TDP-71-10). The published List of Specially Designated Nationals and Blocked Persons is considered public domain.

Retention and Disposal:

Records are managed according to applicable Federal Records Management laws and regulations (see also 5 U.S.C. Part I, Chapter 5, Subchapter II, Section 552a—Records Maintained on Individuals). Record retention and disposition rules are approved by the Archivist of the United States and applied appropriately.

System Manager and Address:

Director, Office of Foreign Assets Control, Department of the Treasury, 1500 Pennsylvania Avenue, NW., Washington, DC 20220.

Notification Procedure:

For records in this system that are unrelated to enforcement, designation, blocking, and other investigations, individuals wishing to be notified if they are named in this system of records must submit a written request containing the following elements: (1) Identify the record system; (2) identify the category and type of record sought; and (3) provide at least two items of secondary identification (date of birth, employee identification number, dates of employment, or similar information). Address inquiries to Assistant Director, Disclosure Services, Office of Foreign Assets Control, Department of the Treasury, 1500 Pennsylvania Avenue, NW., Washington, DC 20220.

For records in this system that are unrelated to enforcement, designation, blocking, and other investigations, individuals wishing to gain access to records maintained in the system under their name or personal identifier must submit a written request containing the following elements: (1) Identify the record system; (2) identify the category and type of record sought; and (3) provide at least two items of secondary identification (date of birth, employee identification number, dates of employment, or similar information). Address inquiries to Assistant Director, Disclosure Services, Office of Foreign Assets Control, Department of the Treasury, 1500 Pennsylvania Avenue, NW., Washington, DC 20220. The request must be made in accordance with 5 U.S.C. 552a and 31 CFR 1.2. See also 31 CFR part 1, subpart C, appendix A, Paragraph 8.

Records in this system that are related to enforcement, designation, blocking, and other investigations are exempt from the provisions of the Privacy Act as permitted by 5 U.S.C. 552a(k)(2). Exempt records may not be disclosed for purposes of determining if the system contains a record pertaining to a particular individual, inspecting records, or contesting the content of records. Although the investigative records that underlie the SDN List may not be accessed for purposes of inspection or for contest of content of records, the SDN List, which is produced from some of the investigative records in the system, is made public. Persons (entities and individuals) on this public list who wish to request the removal of their name from this list may submit a de-listing petition according to the provisions of 31 CFR 501.807.

Record Access Procedures:

Address inquiries to: Assistant Director, Disclosure Services, Office of Foreign Assets Control, Department of the Treasury, 1500 Pennsylvania Avenue, NW., Washington, DC 20220.

Contesting Record Procedures:

See “Record access procedures” above.

Record Source Categories:

(1) From the individual, from OFAC investigations, and from other Federal, state, local, or foreign agencies;

(2) Applicants for Treasury Department licenses under laws or regulations administered by OFAC;

(3) From individuals and entities that are designated or otherwise subject to sanctions and the representatives of such individuals and entities; or

(4) Custodians or other holders of blocked assets.

Exemptions Claimed for the System:

Records in this system related to enforcement, designation, blocking, and other investigations are exempt from disclosure and review under 5 U.S.C. 552a(c)(3), (d), (e)(1), (e)(4)(G), (e)(4)(H), (e)(4)(I), and (f) of the Privacy Act pursuant to 5 U.S.C. 552a(k)(2). See 31 CFR 1.36.

[FR Doc. 2010-25133 Filed 10-5-10; 8:45 am]

BILLING CODE 4811-45-P